DEPARTMENT OF LABOR

Occupational Safety and Health Administration

29 CFR Parts 1910, 1915, 1917, 1918, 1926, and 1928

[Docket No. OSHA-2021-0009]

RIN 1218-AD39

Heat Injury and Illness Prevention in Outdoor and Indoor Work Settings; Extension of Comment Period

AGENCY: Occupational Safety and Health Administration (OSHA), Department of Labor.

ACTION: Advance notice of proposed rulemaking (ANPRM); extension of comment period.

SUMMARY: OSHA is extending the period for submitting comments by 30 days to allow stakeholders interested in the ANPRM on Heat Injury and Illness Prevention in Outdoor and Indoor Work Settings additional time to review the ANPRM and collect information and data necessary for comment.

DATES: The comment period for the ANPRM that was published at 86 FR 59309 on October 27, 2021, is extended. Comments on any aspect of the ANPRM must be submitted by January 26, 2022.

ADDRESSES:

Written comments: You may submit comments and attachments, identified by Docket No. OSHA-2021-0009, electronically at www.regulations.gov, which is the Federal e-Rulemaking Portal. Follow the online instructions for making electronic submissions. The Federal e-Rulemaking Portal at www.regulations.gov is the only way to submit comments on this ANPRM.

Instructions: All submissions must include the agency's name and the docket number for this rulemaking (Docket No. OSHA-2021-0009). All comments, including any personal information you provide, are placed in the public docket without change and may be made available online at www.regulations.gov. Therefore, OSHA cautions commenters about submitting information they do not want made available to the public or submitting materials that contain personal information (either about themselves or others), such as Social Security Numbers and birthdates.

Docket: To read or download comments or other material in the docket, go to Docket No. OSHA-2021-0009 at www.regulations.gov. All comments and submissions are listed in the www.regulations.gov index; however, some information (e.g., copyrighted material) is not publicly available to read or download through that website. All comments and submissions, including copyrighted material, are available for inspection through the OSHA Docket Office. Documents submitted to the docket by OSHA or stakeholders are assigned document identification numbers (Document ID) for easy identification and retrieval. The full Document ID is the docket number plus a unique four-digit code. OSHA is identifying supporting information in this ANPRM by author name and publication year, when appropriate. This information can be used to search for a supporting document in the docket at http://www.regulations.gov. Contact the OSHA Docket Office at 202-693-2350 (TTY number: 877-889-5627) for assistance in locating docket submissions.

FOR FURTHER INFORMATION CONTACT:

Press inquiries: Contact Frank Meilinger, Director, Office of Communications, U.S. Department of Labor; telephone: (202) 693-1999; email: meilinger.francis2@dol.gov.

General and technical information: Contact Andrew Levinson, Directorate of Standards and Guidance, U.S. Department of Labor; telephone: (202) 693-1950.

SUPPLEMENTARY INFORMATION: On October 27, 2021, OSHA issued an ANPRM to initiate rulemaking to protect indoor and outdoor workers from hazardous heat and to obtain additional information about the extent and nature of hazardous heat in the workplace and the nature and effectiveness of interventions and controls used to prevent heat-related injury and illness.

The public comment period for the ANPRM was to close on December 27, 2021, 60 days after publication of the ANPRM. However, OSHA received requests from stakeholders to extend the comment period by an additional 30 days (Document ID 0145) or 60 days (Document ID 0101, 0133, 0141, 0143, 0144, 0148, 0152, 0159). These stakeholders explained that they need additional time to carefully review the questions in the ANPRM, obtain input from members, and provide comments (see, e.g., Document ID 0101).

OSHA agrees to an extension of the public comment period and believes a 30-day extension is sufficient and appropriate in order to balance the agency's need for timely input to inform how the agency will proceed with the rulemaking with these stakeholder requests. Therefore, OSHA is extending the public comment period until January 26, 2022.

Authority and Signature

Douglas L. Parker, Assistant Secretary of Labor for Occupational Safety and Health, U.S. Department of Labor, 200 Constitution Avenue NW, Washington, DC 20210, authorized the preparation of this document pursuant to the following authorities: Sections 4, 6, and 8 of the Occupational Safety and Health Act of 1970 (29 U.S.C. 653, 655, 657); Secretary of Labor's Order 8-2020 (85 FR 58393 (Sept. 18, 2020)); 29 CFR part 1911; and 5 U.S.C. 553.

Signed at Washington, DC, on November 24, 2021.
Douglas L. Parker,
Assistant Secretary of Labor for Occupational Safety and Health.

[FR Doc. 2021-26269 Filed 12-2-21; 8:45 am]

BILLING CODE 4510-26-P